DEPARTMENT OF TRANSPORTATION

Federal Aviation Administration

Agency Information Collection Activity Under OMB Review

AGENCY: Federal Aviation Administration (FAA), DOT.

ACTION: Notice.

SUMMARY: The FAA invites public comments about our intention to request the Office of Management and Budget's (OMB) revision of a current information collection. The Federal Register Notice with a 60-day comment period soliciting comments on the following collection of information was published on March 15, 2006, pages 13445-13446.

DATES: Please submit comments by July 12, 2006.

FOR FURTHER INFORMATION CONTACT: Carla Mauney on (202) 267-9895.

SUPPLEMENTARY INFORMATION:

Federal Aviation Administration (FAA)

Title Recording of Aircraft Conveyances and Security Documents.

Type of Request: Revision of a currently approved collection.

OMB Control Number: 2120-0043.

Forms(s): AC Form 8050-41.

Affected Public: An estimated 45,469 Respondents.

Abstract: The information collected includes mortgages submitted by the public for recording against aircraft, engines, propellers, and spare parts locations.

Estimated Annual Burden Hours: An estimated 45,469 hours annually.

ADDRESSES: Send comments to the Office of Information and Regulatory Affairs, Office of Management and Budget, 725 17th Street, NW., Washington, DC 20503, Attention FAA Desk Officer.

Comments are invited on: Whether the proposed collection of information is necessary for the proper performance of the functions of the Department, including whether the information will have practical utility; the accuracy of the Department's estimates of the burden of the proposed information collection; ways to enhance the quality, utility, and clarity of the information to be collected; and ways to minimize the burden of the collection of information on respondents, including the use of automated collection techniques or other forms of information technology.

Issued in Washington, DC, on June 2, 2006.
Carla Mauney,
FAA Information Collection Clearance Officer, Information Systems and Technology Services Staff, ABA-20.

[FR Doc. 06-5305 Filed 6-9-06; 8:45 am]

BILLING CODE 4910-13-M